DEPARTMENT OF COMMERCE

International Trade Administration

A-427-009

Industrial Nitrocellulose from France: Rescission of Antidumping Duty Administrative Review

AGENCY: Import Administration, International Trade Administration, Department of Commerce.

ACTION: Notice of Rescission of Antidumping Duty Administrative Review.

SUMMARY: On September 30, 2003, the Department of Commerce initiated an administrative review of the antidumping duty order on industrial nitrocellulose from France. The review covers one manufacturer/exporter, Bergerac, N.C. The period of review is August 1, 2002, through July 31, 2003. We are rescinding this review after receiving a timely withdrawal from the party requesting this review.

EFFECTIVE DATE: December 30, 2003.

FOR FURTHER INFORMATION CONTACT: Susan Lehman or Richard Rimlinger, AD/CVD Enforcement Group I, Office 3, Import Administration, International Trade Administration, U.S. Department of Commerce, 14th Street and Constitution Avenue, N.W., Washington, D.C. 20230; telephone: 202-482-0180 or 202-482-4477, respectively.

SUPPLEMENTARY INFORMATION:

Background

On August 1, 2003, the Department published in the Federal Register a notice of opportunity to request an administrative review of the antidumping duty order on industrial nitrocellulose from France covering the period August 1, 2002, through July 31, 2003. See Notice of Opportunity to Request an Administrative Review of Antidumping or Countervailing Duty Order, Finding, or Suspended Investigation, 68 FR 45218.

On September 30, 2003, pursuant to a request by the petitioner, Green Tree Chemical Technologies, Inc. (Green Tree), the Department initiated an administrative review of Bergerac, N.C. (Bergerac) for the period August 1, 2002, through July 31, 2003. See Initiation of Antidumping and Countervailing Duty Administrative Reviews, Request for Revocation In Part and Deferral of Administrative Review, 88 FR 56262. On December 9, 2003, Green Tree withdrew its request for a review and asked the Department to rescind the administrative review.

Rescission of Review

Pursuant to 19 CFR 351.213(d)(1), the Department will rescind an administrative review if a party that requested the review withdraws the request within 90 days of the date of publication of the notice of initiation of the requested review. Because Green Tree submitted its request for rescission within the 90-day time limit and there were no requests for a review from other interested parties, we are rescinding this review. As such, we will issue appropriate assessment instructions directly to U.S. Customs and Border Protection.

This notice is in accordance with section 777(i) of the Tariff Act of 1930, as amended, and 19 CFR 351.213(d)(4).

Dated: December 19, 2003.
Jeffrey May,
Deputy Assistant Secretary for Import Administration.

[FR Doc. 03-32064 Filed 12-29-03; 8:45 am]

BILLING CODE 3510-DS-S